DEPARTMENT OF HOMELAND SECURITY

Bureau of Customs and Border Protection

[Docket No. USCBP-2005-0036]

Customs and Border Protection Airport and Seaport Inspections User Fee Advisory Committee

AGENCY: U.S. Customs and Border Protection, Department of Homeland Security.

ACTION: Notice of Federal Advisory Committee Meeting.

SUMMARY: The U.S. Customs and Border Protection Airport and Seaport Inspections User Fee Advisory Committee will hold a meeting on November 30, 2005. This meeting will be open to the public.

DATES: Wednesday, November 30, 2005.

ADDRESSES: The meeting will be held at Customs International Briefing Conference Room (B 1.5-10), Ronald Reagan Building, 1300 Pennsylvania Avenue, NW., Washington, DC 20229 from 12:30 p.m.—4 p.m. Members of the public may submit written comments at any time before or after the meeting to the contact person for consideration by this Advisory Committee. Written comments received by the contact person prior to the meeting will be considered for discussion at the meeting. A transcript of the meeting will be made available online for public viewing about two weeks following the meeting.

FOR FURTHER INFORMATION CONTACT: Mr. Roberto Williams, Office of Finance, Room 4.5A, 1300 Pennsylvania Avenue, NW., Washington, DC 20229; telephone: (202) 344-1101; e-mail: Roberto.M.Williams@dhs.gov.

SUPPLEMENTARY INFORMATION:

Agenda of Meeting

The agenda of the November 30 meeting is expected to include:

1. Introduction of the Committee members;

2. Discussion of activities since last meeting;

3. Discussion of workload and financial issues;

4. Discussion of future traffic trends;

5. Discussion of specific concerns and questions of Committee members;

6. Discussion of relevant written statements submitted in advance by members of the public;

7. Discussion of Committee administrative issues and scheduling of next meeting

Background on the CBP Airport and Seaport Inspections User Fee Advisory Committee

The CBP Airport and Seaport Inspections User Fee Advisory Committee (hereinafter the “Advisory Committee”) was created under the authority of Section 286(k) of the Immigration and Nationality Act of 1952, as amended by the Department of Justice Appropriations Act of 1986 [Pub. L. 99-59; enacted October 30, 1986] (8 U.S.C. 1356(k)). Formerly known as the Immigration and Naturalization Service (INS) Airport and Seaport Inspections User Fee Advisory Committee, the original Advisory Committee was responsible only for immigration airport and seaport inspectional services and associated user fees. The Executive Associate Commissioner, Immigration and Naturalization Service (INS) chaired that advisory committee.

The Homeland Security Act of 2002 merged portions of the U.S. Customs Service and the INS to create Customs and Border Protection (CBP), as part of the Department of Homeland Security (DHS). Section 1512(d) of the Homeland Security Act of 2002 transferred the responsibilities of the Advisory Committee to CBP. Under CBP, the executive Directors of Budget, Office of Finance; and Travel Security and Facilitation, Office of Field Operations, chair the Advisory Committee.

The Advisory Committee held its first meeting under the direction of CBP in October 2003. A subsequent meeting was held in April 2004. It is noted that before the creation of DHS, there was an advisory committee called the Consolidated Omnibus Budget Reconciliation Act (COBRA) Fees Advisory Committee, which met to discuss user fee issues related to customs inspectional services. All advisory responsibilities previously handled by the COBRA Fees Advisory Committee have been vested within this Advisory Committee.

In June 2005, the Advisory Committee's charter was renewed and amended in consultation with the DHS Committee Management Officer. The charter reflects the broader responsibilities of CBP, providing that the Advisory Committee will give advice and recommendations on policy and program issues relating to CBP inspectional services at airports and seaports, whether the inspectional services relate to agriculture, customs, or immigration functions.

Purpose of Committee

The purpose of this Advisory Committee is the performance of advisory responsibilities pursuant to section 286(k) of the Immigration and Nationality Act (INA), as amended, 8 U.S.C. 1356(k) and the Federal Advisory Committee Act, 5 U.S.C. app. 1 et seq. This Advisory Committee will advise on issues related to the performance of Airport and Seaport agriculture, customs, and immigration inspection services. This advice should include, but need not be limited to, the time period in which such services should be performed, the proper number and deployment of inspection officers, the level of fees, and the appropriateness of any proposed fee. These responsibilities are related to the assessment of an immigration user fee pursuant to 8 U.S.C. 1356(d), the assessment of a customs inspection user fee pursuant to 19 U.S.C. 58c(a)(5), and the assessment of an agriculture inspection user fee pursuant to 21 U.S.C 136a. The Advisory Committee focuses its attention on those areas of most concern and benefit to the travel industry, the traveling public, and the Federal Government.

Public Attendance

A limited number of members of the public may register to attend the public session on a first-come, first-served basis per the procedures that follow. Security requires that any member of the public who wishes to attend the public session provide his or her name and date of birth no later than 5 p.m. e.s.t., November 25, 2005, to Mr. Roberto Williams via e-mail at Roberto.M.Williams@dhs.gov or via phone at (202) 344-1101. Persons with disabilities who require special assistance should indicate so in their admittance request and are encouraged to indicate their desires to attend and anticipated special needs as early as possible. Photo identification will be required for entry into the public session, and everyone in attendance must be present and seated by 12:30 p.m.

Dated: November 10, 2005.
Elaine P. Killoran,
Acting Assistant Commissioner, Office of Finance, Customs and Border Protection.

[FR Doc. 05-22678 Filed 11-15-05; 8:45 am]

BILLING CODE 9111-14-P